DEPARTMENT OF ENERGY

Federal Energy Regulatory Commission

[Docket Nos. RP00-335-003 and RP03-167-001]

Black Marlin Pipeline Company; Notice of Compliance Filing

March 18, 2003.

Take notice that on March 13, 2003, Black Marlin Pipeline Company (Black Marlin) tendered for filing in its FERC Gas Tariff, First Revised Volume No. 1, the following tariffs sheets in compliance with the Commission's letter order issued February 27, 2003:

Second Revised Sheet No. 109.

First Revised Sheet No. 110.

Third Revised Sheet No. 111.

First Revised Sheet No. 133.

Second Revised Sheet No. 134.

Third Revised Sheet No. 135.

Fifth Revised Sheet No. 200.

Fifth Revised Sheet No. 212.

Sixth Revised Sheet No. 213.

Second Revised Sheet No. 213.01.

Original Revised Sheet No. 225.

Original Revised Sheet No. 226.

Original Revised Sheet No. 227.

Original Revised Sheet No. 228.

Reserved Sheet Nos. 229-299.

Black Marlin further states that copies of the filing have been mailed to each of its customers, interested State Commissions and other interested persons.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 25, 2003.

Magalie R. Salas,
Secretary.

[FR Doc. 03-7040 Filed 3-24-03; 8:45 am]

BILLING CODE 6717-01-P